DEPARTMENT OF TRANSPORTATION

Federal Aviation Administration

14 CFR Part 71

[Docket No. FAA-2023-2099; Airspace Docket No. 23-AWP-31]

RIN 2120-AA66

Modification of Class D Airspace & Establishment of Class E Airspace; Camp Pohakuloa, HI

AGENCY: Federal Aviation Administration (FAA), DOT.

ACTION: Final rule.

SUMMARY: This action modifies the Class D airspace and establishes Class E airspace extending upward from 700 feet above the surface at Bradshaw Army Airfield, Camp Pohakuloa, HI. Additionally, this action updates the airport's Class D airspace legal description. These actions support the safety and management of instrument flight rules (IFR) and visual flight rules (VFR) operations at the airport.

DATES: Effective date 0901 UTC, May 16, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class D airspace and establishes Class E airspace to support IFR and VFR operations at Bradshaw Army Airfield, HI.

History

The FAA published a notice of proposed rulemaking for Docket No. FAA-2023-2099 in the Federal Register (88 FR 82282; November 24, 2023), proposing to modify Class D airspace and establish Class E airspace at Bradshaw Army Airfield, HI. Interested parties were invited to participate in this rulemaking effort by submitting written comments on the proposal to the FAA. No comments were received.

Incorporation by Reference

Class D and E5 airspace designations are published in paragraphs 5000 and 6005, respectively, of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by modifying the Class D airspace and establishing Class E airspace extending upward from 700 feet above the surface at Bradshaw Army Airfield, Camp Pohakuloa, HI.

A northwest extension to the Class D lateral boundary is added to appropriately contain the point at which an arriving aircraft is expected to descend to below 1,000 feet above the surface when conducting the Area Navigation (Global Positioning System) Runway (RWY) 9 approach.

A southwest extension to the Class D lateral boundary is added to appropriately contain aircraft from the surface until reaching the next adjacent airspace when departing on the RWY 9 obstacle departure procedure.

Class E airspace extending upward from 700 feet above the surface is established within a 6-mile radius of the airport and within a westward extension to that radius to appropriately contain IFR operations below 1,500 feet above the surface and departing IFR operations until they reach 1,200 feet above the surface at the airport. This Class E airspace excludes any portion that overlaps Restricted Area-3103 when it is active.

Lastly, the Class D airspace legal description is modified. The city name on line one of the Class D legal description text header is updated to read “Camp Pohakuloa” to match the FAA's database. The airport name on line two of the Class D legal description text header is updated to read “Bradshaw Army Airfield, HI” to match the FAA's database. The geographic coordinates located on line three of the Class D legal description text header are updated to match the FAA's database. The Class D legal description body is modified to include verbiage that excludes any portion of the Class D airspace that overlaps Restricted Area-3103 when it is active. The legal description body is also updated to replace the outdated use of the phrases “Notice to Airmen” and “Airport/Facility Directory.” These phrases now read “Notice to Air Missions” and “Chart Supplement,” respectively, to align with the FAA's current nomenclature.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11H, Airspace Designations and Reporting Points, dated August 11, 2023, and effective September 15, 2023, is amended as follows:

Paragraph 5000 Class D Airspace.

* * * * *

AWP HI D Camp Pohakuloa, HI [Amended]

Bradshaw Army Airfield, HI

(Lat. 19°45′36″ N, long. 155°33′14″ W)

That airspace extending upward from the surface to and including 8,700 feet MSL within a 4.3-mile radius of the airfield, within 2.5 miles each side of the airfield's 116° bearing extending from the 4.3-mile radius to 5.9 miles southeast of the airfield, and within 0.7 miles north and 1.4 miles south of the airfield's 299° bearing extending from the 4.3-mile radius to 4.9 miles northwest of the airfield, excluding that airspace within restricted area R-3103 when active. This Class D airspace area is effective during the specific dates and times established in advance by a Notice to Air Missions. The effective date and time will thereafter be continuously published in the Chart Supplement.

* * * * *

Paragraph 6005 Class E Airspace Areas Extending Upward From 700 Feet or More Above the Surface of the Earth.

* * * * *

AWP HI E5 Camp Pohakuloa, HI [New]

Bradshaw Army Airfield, HI

(Lat. 19°45′36″ N, long. 155°33′14″ W)

That airspace extending upward from 700 feet above the surface within a 6-mile radius of the airfield and within 2.6 miles north and 1.8 miles south of the airfield's 281° bearing extending from the 6-mile radius to 6.3 miles west of the airfield, excluding that airspace within restricted area R-3103 when active.

* * * * *

Issued in Des Moines, Washington, on February 28, 2024.
B.G. Chew,
Group Manager, Operations Support Group, Western Service Center.

[FR Doc. 2024-04476 Filed 3-1-24; 8:45 am]

BILLING CODE 4910-13-P